SECURITIES AND EXCHANGE COMMISSION

Sunshine Act Meeting

Notice is hereby given, pursuant to the provisions of the Government in the Sunshine Act, Public Law 94-409, that the Commission will host the SEC Government-Business Forum on Small Business Capital Formation on Thursday, November 19, 2015, beginning at 9:00 a.m., in the auditorium of the Commission's headquarters at 100 F Street NE., Washington, DC. The forum will be open to the public and webcast on the SEC's Web site. Doors will open at 8:15 a.m. Visitors will be subject to security checks.

The forum will include remarks by SEC Commissioners and panel discussions that Commissioners may attend. Panel topics will include exempt and registered offerings occurring after the passage of the JOBS Act.

Commissioner Stein, as duty officer, voted to consider the SEC Government-Business Forum on Small Business Capital Formation in open session, and determined that Commission business required consideration earlier than one week from today. No earlier notice of this Meeting was practicable.

At times, changes in Commission priorities require alterations in the scheduling of meeting items.

For further information, please contact the Office of the Secretary at (202) 551-5400.

Dated: November 13, 2015.
Brent J. Fields,
Secretary.

[FR Doc. 2015-29502 Filed 11-16-15; 2:00 pm]

BILLING CODE 8011-01-P